DEPARTMENT OF HEALTH AND HUMAN SERVICES

Office of Refugee Resettlement

Administration for Children and Families; Refugee Microenterprise Development Program

AGENCY: Office of Refugee Resettlement (ORR), ACF, DHHS.

ACTION: Corrective Notice for: Announcement of availability of FY 2003 social services discretionary funds for refugee microenterprise development projects.

CFDA Number: The Catalog of Federal Domestic Assistance number for this program is 93.576. The title of the program is the Refugee Microenterprise Development Program.

SUMMARY: The purpose of this notice is to correct an error that was printed in notice 68 FR 38371 on June 27, 2003. The Office of Refugee Resettlement (ORR) invites eligible entities to submit competitive grant applications for microenterprise development projects for refugees. Applications will be accepted pursuant to the Director's discretionary authority under section 412(c) of the Immigration and Nationality Act (INA) (8 U.S.C. 1522(c)), as amended. Applications will be screened and evaluated as indicated in this program announcement. Awards will be contingent on the outcome of the competition and the availability of funds.

Eligibility for refugee social services includes: (1) Refugees; (2) asylees; (3) Cuban and Haitian entrants; (4) certain Amerasians from Vietnam who are admitted to the U.S. as immigrants; (5) certain Amerasians from Vietnam, including U.S. citizens; and (6) victims of a severe form of trafficking (see 45 CFR 400.43 and ORR State Letters Number 01-13 as modified by Number 02-01 on trafficking victims). For convenience, the term “refugee” is used in this notice to encompass all such eligible persons. Additional information on eligibility is available at: http://www.acf.hhs.gov/programs/orr/policy/s101-13.htm and http://www.acf.hhs.gov/programs/orr/policy/s102-01.htm.

SUPPLEMENTARY INFORMATION: This notice is a correction notice of 68 FR 38371 that was published on June 27, 2003. This notice contains the final date for receipt of applications for funding available through this program. The closing date for receipt of applications is July 28, 2003.

DATES: The closing date for submission of applications is July 28, 2003. See Part IV of this announcement for more information on submitting applications.

Announcement Availability: This program announcement and the application materials are available on the Office of Refugee Resettlement Web site at http://www.acf.hhs.gov/programs/orr/funding.

FOR FURTHER INFORMATION CONTACT: Lisa Campbell, Division of Community Resettlement, Office of Refugee Resettlement, Administration for Children and Families, at (202) 205-4597 or LCampbell@ACF.HHS.GOV or Daphne Weeden, Division of Discretionary Grants, Office of Grants Management, Administration for Children and Families, at (202) 260-5980 or paqueries-ogm@acf.hhs.gov.

Nguyen Van Hanh,
Director, Office of Refugee Resettlement.

[FR Doc. 03-17397 Filed 7-8-03; 8:45 am]

BILLING CODE 4184-01-P